ENVIRONMENTAL PROTECTION AGENCY

40 CFR Part 52

[EPA-R04-OAR-2017-0022; FRL-9967-05-Region 4]

Air Plan Approval; Kentucky; Louisville Miscellaneous Rule Revisions

AGENCY: Environmental Protection Agency (EPA).

ACTION: Final rule.

SUMMARY: On August 29, 2012, the Commonwealth of Kentucky, through the Kentucky Division for Air Quality (KDAQ), submitted changes to the Kentucky State Implementation Plan (SIP) on behalf of the Louisville Metro Air Pollution Control District (District or Jefferson County). The Environmental Protection Agency (EPA) is approving several changes that modify the District's air quality regulations as incorporated into the SIP. The changes to the regulatory portion of the SIP that EPA is approving pertain to definitional changes, administrative amendments, open burning, standards of performance, and volatile organic compounds (VOCs). EPA is approving these changes because the Commonwealth and Jefferson County have demonstrated that these changes are consistent with the Clean Air Act (CAA or Act).

DATES: This rule is effective October 2, 2017.

ADDRESSES: EPA has established a docket for this action under Docket Identification No. EPA-R04-OAR-2017-0022. All documents in the docket are listed on the https://www.regulations.gov Web site. Although listed in the index, some information is not publicly available, i.e., Confidential Business Information or other information whose disclosure is restricted by statute. Certain other material, such as copyrighted material, is not placed on the Internet and will be publicly available only in hard copy form. Publicly available docket materials are available either electronically through https://www.regulations.gov or in hard copy at the Air Regulatory Management Section, Air Planning and Implementation Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sean Lakeman, Air Regulatory Management Section, Air Planning and Implementation Branch, Air, Pesticides and Toxics Management Division, U.S. Environmental Protection Agency, Region 4, 61 Forsyth Street SW., Atlanta, Georgia 30303-8960. The telephone number is (404) 562-9043. Mr. Lakeman can be reached via electronic mail at lakeman.sean@epa.gov.

SUPPLEMENTARY INFORMATION:

I. Background

On August 29, 2012, KDAQ submitted a SIP revision to EPA for approval that involves changes to Jefferson County regulations related to acronym additions, administrative amendments, open burning, standards of performance, and VOCs. EPA is approving the changes to Jefferson County Regulation 1.03—Abbreviations and Acronyms; Regulation 1.08—Administrative Procedures; Regulation 1.11—Control of Open Burning; Regulation 1.19—Administrative Hearings; Regulation 6.18—Standards of Performance for Solvent Metal Cleaning Equipment; Regulation 6.43—Volatile Organic Compound Emission Reduction Requirements; and repeal Regulation 7.18—Standards of Performance for New Solvent Metal Cleaning Equipment.

This action will update Kentucky's acronyms and make changes to other regulations approved into the SIP. The changes made to the regulations other than definitions are administrative in nature, including updating internal references. In a proposed rulemaking published on July 10, 2017 (82 FR 31736), EPA proposed to approve Kentucky's August 29, 2012, SIP revision. The details of Kentucky's August 29, 2012, SIP revision and the rationale for EPA's action are explained in the proposed rulemaking. Comments on the proposed rulemaking were due on or before August 9, 2017. EPA did not receive any comments on the proposed action.

II. Incorporation by Reference

In this rule, EPA is finalizing regulatory text that includes incorporation by reference. In accordance with requirements of 1 CFR 51.5, EPA is finalizing the incorporate by reference Jefferson County Regulation 1.03—Abbreviations and Acronyms, which had a state effective date of January 16, 2008; Regulation 1.08—Administrative Procedures, in which version 13 had an effective date of March 21, 2010; Regulation 1.11—Control of Open Burning; Regulation, in which version 10 has an effective date of January 16, 2008; 1.19—Administrative Hearings, which has an effective date of January 16, 2008; Regulation 6.18—Standards of Performance for Solvent Metal Cleaning Equipment, which has an effective date of May 9, 2003; and Regulations 6.43—Volatile Organic Compound Emissions Reduction Requirements, in which version 5 has an effective date of February 15, 2006. EPA has made, and will continue to make, these materials generally available through https://www.regulations.gov and/or at the EPA Region 4 Office (please contact the person identified in the FOR FURTHER INFORMATION CONTACT section of this preamble for more information).

Therefore, these materials have been approved by EPA for inclusion in the SIP, have been incorporated by reference by EPA into that plan, are fully federally-enforceable under sections 110 and 113 of the CAA as of the effective date of the final rulemaking of EPA's approval, and will be incorporated by reference by the Director of the Federal Register in the next update to the SIP compilation.¹

¹ 62 FR 27968 (May 22, 1997).

III. Final Action

EPA is approving Kentucky's August 29, 2012, SIP revision, submitted on behalf of the District, because it is consistent with the CAA. EPA believes that all of these changes are consistent with section 110 of the CAA and meet the regulatory requirements pertaining to SIPs, including CAA section 110(l), since these changes, with the exception to definition changes, are administrative in nature and will not interfere with any applicable requirement concerning attainment and reasonable further progress, or any other applicable requirement of the CAA.

IV. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA), petitions for judicial review of this action must be filed in the United States Court of Appeals for the appropriate circuit by October 30, 2017. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Incorporation by reference, Intergovernmental relations, Nitrogen dioxide, Sulfur Dioxide, Reporting, Volatile organic compounds and recordkeeping requirements.

Dated: August 16, 2017.
V. Anne Heard,
Acting Regional Administrator, Region 4.

40 CFR part 52 is amended as follows:

PART 52—APPROVAL AND PROMULGATION OF IMPLEMENTATION PLANS

1. The authority citation for part 52 continues to read as follows:

Authority: 42 U.S.C. 7401 et seq.

Subpart S—Kentucky

2. Section 52.920(c) is amended under Table 2 by:

a. Revising the entries for “1.03”, “1.08”, “1.11”, “1.19”, “6.18” and “6.43”; and

b. Removing the entry for “7.18”.

The revised text reads as follows:

§ 52.920 Identification of plan.

* * * * *

(c) * * *

Table 2—EPA-Approved Jefferson County Regulations for Kentucky
Reg | Title/subject | EPA approval date | Federal Register notice | District effective date | Explanation
Reg 1—General Provisions
* * * * * * *
1.03 | Abbreviations and Acronyms | 8/31/17 | [Insert Federal Register citation] | 1/16/08
* * * * * * *
1.08 | Administrative Procedures | 8/31/17 | [Insert Federal Register citation] | 3/21/10
* * * * * * *
1.11 | Control of Open Burning | 8/31/17 | [Insert Federal Register citation] | 1/16/08
* * * * * * *
1.19 | Administrative Hearings | 8/31/17 | [Insert Federal Register citation] | 1/16/08
* * * * * * *
Reg 6—Standards of Performance for Existing Affected Facilities
* * * * * * *
6.18 | Standards of Performance for Existing Solvent Metal Cleaning Equipment | 8/31/17 | [Insert Federal Register citation] | 5/9/03 |
* * * * * * *
6.43 | Volatile Organic Compound Reduction Requirements | 8/31/17 | [Insert Federal Register citation] | 2/15/06 |
* * * * * * *

* * * * *

[FR Doc. 2017-18421 Filed 8-30-17; 8:45 am]

BILLING CODE 6560-50-P